DEPARTMENT OF COMMERCE

National Oceanic and Atmospheric Administration

Agency Information Collection Activities; Submission to the Office of Management and Budget (OMB) for Review and Approval; Comment Request; Alaska Region Scale & Catch Weighing Requirements

The Department of Commerce will submit the following information collection request to the Office of Management and Budget (OMB) for review and clearance in accordance with the Paperwork Reduction Act of 1995, on or after the date of publication of this notice. We invite the general public and other Federal agencies to comment on proposed, and continuing information collections, which helps us assess the impact of our information collection requirements and minimize the public's reporting burden. Public comments were previously requested via the Federal Register on June 17, 2020 (85 FR 36566), during a 60-day comment period. This notice allows for an additional 30 days for public comments.

Agency: National Oceanic and Atmospheric Administration (NOAA).

Title: Alaska Region Scale & Catch Weighing Requirements.

OMB Control Number: 0648-0330.

Form Number(s): None.

Type of Request: Regular submission [extension of a current information collection].

Number of Respondents: 85.

Average Hours Per Response: Scale Type Evaluation: 50 hours; Installation & Maintenance: At-Sea Scales (Maintenance only)—1 minute; Video Monitoring Systems (maintenance)—1 minute; Video Monitoring Systems (installation)—12 hours; Observer Sampling Station (installation)—12 hours; maintenance—1 minute; Inspection Request: 10 minutes; Daily Scale Test: Notify Observer of Tests—2 minutes; Record of Flow Scale Test—10 minutes; Record of Hopper Scale Test—10 minutes; Printed Report—Flow Scale: Catch & Cumulative Weight, Audit Trail, Calibration Log, and Fault Log—1 minute each; Printed Report—Hopper Scale: Catch Weight and Audit Trail—1 minute each; Video Monitoring: 2 hours; Notification of Pacific Cod Monitoring Option: 10 minutes; Catch Monitoring and Control Plan (CMCP): Annual Submission—40 hours; CMCP Addendum—8 hours; Printed Record from Scale—1 minute; Notify Observer—1 minute; Crab Monitoring Plan (CMP): Annual Submission—16 hours; CMP Addendum—8 hours; Printed Records from Scale—1 minute.

Total Annual Burden Hours: 46,037.

Needs and Uses: The National Marine Fisheries Services (NMFS), Alaska Regional Office, is requesting extension of the currently approved information collection for Alaska Region Scale & Catch Weighing Requirements.

The Magnuson-Stevens Fishery Conservation and Management Act, 16 U.S.C. 1801 et seq. (Magnuson-Stevens Act) authorizes the North Pacific Fishery Management Council to prepare and amend fishery management plans for any fishery in waters under its jurisdiction.

The At-Sea Scales Program was developed in response to the need for catch accounting methods that were more precise and verifiable at the level of the individual haul and less dependent on estimates generated by at-sea observers. This was necessary due to the implementation of large-scale catch share programs that required NMFS to provide verifiable and defensible estimates of quota harvest. Scale and catch-weighing monitoring is required for Western Alaska Community Development Quota Program (CDQ) catcher/processors (C/Ps), American Fisheries Act (AFA) C/Ps, AFA motherships, AFA shoreside processors and stationary floating processors, Central Gulf of Alaska Rockfish Program trawl C/Ps, non-AFA trawl C/Ps participating in Bering Sea and Aleutian Islands (BSAI) trawl fisheries, and longline C/Ps participating in BSAI Pacific cod fisheries. Scale and catch weighing requirements are located at 50 CFR parts 679 and 680.

NMFS has identified three primary objectives for monitoring catch to ensure independent and verifiable data is available for fisheries management. First, monitoring methods must ensure all catch delivered to a processor is weighed and identified to species and provide a verifiable record of the weight and species composition of each delivery. Second, all catch must be weighed using NMFS-approved scales to determine the weight of the catch and provide a record of that weight. Third, monitoring systems, such as video, must be in place to ensure that all catch is accounted for.

Shoreside processors participating in catch share programs have many of the same catch accounting and monitoring goals, but two differences require unique monitoring tools to obtain precise and verifiable catch amounts for quota management. First, shoreside processors vary more in size, facilities, and layout than do catcher/processors or motherships. Second, the State of Alaska is responsible for approving scales used for trade by shoreside processors and has developed an effective program for their inspection and approval.

Because of the wide variations in factory layout, a performance-based catch monitoring system is more appropriate for shoreside processors than a type approval process used for at-sea scales. CMCPs (Catch Monitoring and Control Plans) and CMPs (Crab Monitoring Plans) are submitted by the representative from the shoreside processor and approved by NMFS. CMCPs and CMPs detail a series of performance based standards set out in regulation that ensure that all delivered catch can be effectively monitored by NMFS-authorized personnel, that NMFS-authorized personnel can effectively conduct their monitoring duties, and that all catch is accurately sorted and weighed by species.

Vessels that participate in halibut deck sorting are required to comply with additional monitoring and equipment requirements such as the installation of an observer sampling station on deck and video monitoring requirements. These additional measures are necessary to ensure accurate accounting of halibut sorted on the deck of participating vessels.

Affected Public: Business or other for-profit organizations.

Frequency: Annually; daily, for time period.

Respondent's Obligation: Required to Obtain or Retain Benefits.

Legal Authority: 16 U.S.C. 1801 et seq.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0648-0330.

Sheleen Dumas,
Department PRA Clearance Officer, Office of the Chief Information Officer, Commerce Department.

[FR Doc. 2020-24718 Filed 11-5-20; 8:45 am]

BILLING CODE 3510-22-P